DEPARTMENT OF THE INTERIOR

Fish and Wildlife Service

[FWS-R4-ES-2011-N049;

40120-1112-0000-F5]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by April 18, 2011.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR 17. This notice is provided under section 10(c) of the Act. If you wish to comment, you may submit comments by any one of the following methods. You may mail comments to the Fish and Wildlife Service's Regional Office (see ADDRESSES section) or via electronic mail (e-mail) to: permitsR4ES@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so.

Applicant: U.S. Forest Service, Montgomery, Alabama, TE-132772. The applicant requests renewal of authorization for taking the following species during scientific studies and land management activities on National Forest lands in Alabama:

Cahaba shiner Notropis cahabae

Cumberlandian Combshell Epioblasma brevidens

Upland Combshell Epioblasma metastriata

Southern acornshell Epioblasma othcaloogensis

Coosa moccasinshell Medionidus parvulus

Southern clubshell Pleurobema decisum

Dark pigtoe Pleurobema furvum

Southern pigtoe Pleurobema geogianum

Ovate clubshell Pleurobema perovatum

Triangular kidneyshell Ptychobranchus greenii

Flat pebblesnail Lepyrium showalteri

Lacy elimia Elimia crenatella

Cylindrical lioplax Lioplax cyclostomaformis

Tulotoma Tulotoma magnifica

Applicant: Stephen Samoray, Nashville, Tennessee, TE 25612A. Applicant requests authorization for non-lethal take of Indiana bats (Myotis sodalis), gray bats (Myotis grisescens), Virginia big-eared bats (Corynorihinus townsendii virginianus) and Ozark big-eared bats (Corynorhinus townsendii ingens) for the purpose of conducting presence/absence surveys and collecting scientific data on roost sites.

Applicant: Troy Best, Auburn University, Alabama, TE-77175. Applicant requests authorization to take (capture and release) Indiana bats (Myotis sodalis) and gray bats (Myotis grisescens) for the purpose of conducting scientific and genetic research, population monitoring, and ecological studies. This work will be conducted throughout Alabama.

Applicant: U.S. Forest Service, Russellville, Arkansas, TE-65972. The applicant requests renewal of authorization for take of the following species during scientific studies and land management activities on National Forest lands of the Ozark-St. Francis National Forest:

Gray bat Myotis grisescens

Indiana bat Myotis sodalis

Ozark big-eared bat Corynorhinus townsendii ingens

Least tern Sterna antillarum

Fat pocketbook Potamilus carpax

Pink mucket Lampsilis abrupt

Palid sturgeon Scaphirhynchus albus

Cave crayfish Cambarus aculabrum

Cave crayfish Cambarus zophonastes

American burying beetle Nicrophorus americanus

Missouri bladderpod Lesquerella filiformis

Applicant: Joseph Alderman, Semora, North Carolina, TE-28597A.

The applicant requests authority for nonlethal take of the following species while conducting presence/absence surveys in North and South Carolina:

Carolina heelsplitter Lasmigona decorate

Appalachian elktoe Alasmidonta raveneliana

Tar River spinymussel Elliptio steinstansana

Dwarf wedgemussel Alasmidonta heterodon

James spinymussel Pleurobema collina

Littlewing pearlymussel Pegias fibula

Cape Fear shiner Notropis mekistocholas

Applicant: Ecological Solutions, Inc., Roswell, Georgia, TE-70800.

The applicant requests authority for nonlethal take of the following species while conducting presence/absence surveys in Georgia:

Hairy Rattleweed Baptisia arachnifera

Alabama Leather Flower Baptisia arachnifera

Smooth coneflower Echinacea laevigata

Pondberry Lindera melissifolia

Candy dropwort Oxypolis canbyi

Harperella Ptilimnium nodosum

Dwarf sumac Rhus michauxii

Green pitcherplant Sarracenia oreophila

Chaffseed Schwalbea Americana

Fringed campion Silene polypetala

Cooley meadowrue Thalictrum cooleyi

Persistent trillium Trillium persistens

Relict trillium Trillium reliquum

Tennessee yellow-eyed grass Xyris tennesseensis

Etowah Darter Etheostoma etowahae

Amber Darter Percina antesella

Applicant: Shaw Air Force Base, South Carolina, TE-75925.

The applicant requests renewal of authorization for trapping, banding, translocating and installing artificial nesting cavities for red-cockaded woodpeckers (Picoides borealis) on the Poinsett Combat Range, Manchster State Forest, and other Air Force Properties in Sumter County, South Carolina.

Applicant: U.S. Army, Fort Polk, Louisiana, TE-41314.

The applicant requests renewal of authorization for trapping, banding, translocating, and installing artificial nesting cavities for red-cockaded woodpeckers (Picoides borealis) on the Ft. Polk Army Base, Louisiana.

Applicant: Dr. J.H. Carter III and Assoc., TE-807672.

The applicant requests renewal of authorization for trapping, banding, translocating, and installing artificial nesting cavities for red-cockaded woodpeckers (Picoides borealis) throughout the species' range.

Applicant: North Carolina Wildlife Resources Commission, TE-31057A.

The applicant requests authority for nonlethal take of the following species for the purposes of research, management, and captive propagation in North Carolina:

Appalachian elktoe Alasmidonta raveneliana

Tar River spinymussel Elliptio steinstansana

Dwarf wedgemussel Alasmidonta heterodon

James spinymussel Pleurobema collina

Littlewing pearlymussel Pegias fibula

Cape Fear shiner Notropis mekistocholas

Applicant: Savannah River Ecology Laboratory, Aiken, South Carolina, TE-31066A.

The applicant requests authority to collect seeds from Echinacea laevigata (smooth coneflower) for the purpose of establishment of a conservation garden. Plants and seeds from this effort may be used in the future to assist with recovery and reintroduction efforts.

Applicant: Homosassa Springs State Wildlife Park, Homosassa, Florida, TE-40783.

Applicant requests renewal of authorization to take by housing and providing care for Key deer (Odocoileus virginianus clavium) for the purpose of public education. This activity will take place in Citrus County, Florida.

Applicant: Eglin Air Force Base, Niceville, Florida, TE-130169.

Applicant requests renewal of authorization to collect Cladonia perforata (perforate reindeer lichen), for the purpose of establishing a population at the Bok Tower Garden plant repository to use for re-establishment in the event that the current wild population is lost.

Applicant: North Carolina Wildlife Resources Commission, TE-31079A.

Applicant requests authorization to take (capture and release) Indiana bats (Myotis sodalis), Virginia big-eared bats (Corynorhinus townsendii virginianus) and gray bats (Myotis grisescens) for the purpose of conducting presence/absence surveys, population monitoring, and ecological studies. This work will be conducted in North Carolina.

Applicant: Tennessee Wildlife Resources Agency, TE-31141A.

Applicant requests authorization to take (capture and release) Indiana bats (Myotis sodalis) and gray bats (Myotis grisescens) for the purpose of conducting presence/absence surveys, population monitoring, and ecological studies. This work will be conducted in Tennessee.

Applicant: Florida Department of Environmental Protection, Apopka, Florida, TE-32394A.

Applicant requests authorization to take, by nonlethal means, the Anastasia Island beach mouse (Peromyscus polionotus phasma) for the purpose of scientific study and enhancing management and recovery efforts. This effort will be conducted along the Atlantic coastline of northeast Florida.

Applicant: James Godwin, Auburn, Alabama, TE-32397A.

Applicant requests authorization to take Alabama red-bellied turtles (Pseudemys alabamenisis) for the purpose of scientific study. This effort will involve trapping, marking, and removing tissue for genetic analysis. The study will take place in Baldwin and Mobile Counties, Alabama, and Harrison and Jackson Counties, Mississippi.

Applicant: USDA, Forest Service, Montgomery, Alabama, TE-33465A.

The applicant requests authorization for trapping, banding, translocating, and installing artificial nesting cavities for red-cockaded woodpeckers (Picoides borealis) on National Forests in Alabama, and related activities in cooperating States.

Applicant: Joseph Kirkbride, National Arboretum, Washington DC, TE-33475A.

The applicant is requesting authorization to take plant tissues and flowers from Chionanthus pygmaeus (pygmy fringe tree) from Federal lands in Florida, to retain as voucher specimens at the National Arboretum, and to conduct genetic testing on the specimens for species verification.

Applicant: Virginia Cooperative Fish and Wildlife Research Unit, Blacksburg, Virginia, TE-34778A.

The applicant requests authorization to capture, handle, tag, and track Indiana bat (Myotis sodalis) at Ft. Knox, Kentucky, and Carolina northern flying squirrel (Glaucomys sabrinus coloratus) in North Carolina.

Applicant: John Alderman, Pittsboro, North Carolina, TE-065756.

The applicant requests to amend his existing permit to include conducting presence-absence surveys (to include capture, tag, and release) for all endangered and threatened species of freshwater mussels in the United States.

Applicant: Bernard Kuhajda, University of Alabama, Tuscaloosa, Alabama, TE-137403.

The applicant requests to amend his existing permit to include presence-absence surveys for and tissue collection from the endangered vermilion darter (Etheostoma chermocki) and the proposed endangered rush darter (E. phytophilum) in Alabama.

Applicant: Phillip Bettoli, U.S. Geological Survey, Cookeville, Tennessee, TE-34878A.

The applicant is requesting authorization to take (nonlethally) boulder darters (Etheostoma wapiti) and cracking pearlymussels (Hemistena lata) for the purpose of developing sampling protocols and enhancing recovery efforts. This work will be accomplished in the Elk River, Tennessee.

Applicant: Alabama Power Company, Birmingham, Alabama, TE-34880A.

The applicant is requesting authorization for take (nonlethal) of red-cockaded woodpeckers (Picoides borealis), southern clubshell (Pleurobema decisum), southern pigtoe (Pleurobema georgianum), Georgia pigtoe (Pleurobema hanleyianum), interrupted rocksnail (Leptoxis foreman), cylindrical lioplax (Lioplax cyclostomaformis), rough hornsnail (Pleurocera foreman), and tulotoma (Tulotoma magnifica), for the purpose of conducting presence/absence surveys and to enhance recovery through management activities. This work will be conducted in Alabama.

Applicant: Mark Bailey, Andalusia, Alabama, TE-34882A.

The applicant is requesting authorization for take (non-lethal) of red-cockaded woodpeckers (Picoides borealis), Mississippi gopher frog (Rana capitol sevosa) and reticulated flatwoods salamander (Ambystoma bishop) for the purpose of conducting presence/absence surveys and to assist with recovery activities. This work will be conducted throughout the species ranges.

Applicant: U.S. Army, Ft. Jackson, South Carolina, TE-60988.

The applicant requests authorization for trapping, banding, translocating and installing artificial nesting cavities for red-cockaded woodpeckers (Picoides borealis) on Fort Jackson.

Dated: March 3, 2011.
Mark J. Musaus,
Acting Regional Director.

[FR Doc. 2011-6256 Filed 3-16-11; 8:45 am]

BILLING CODE 4310-55-P